DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Violence Intervention To Enrich Lives (VITEL) Supplement—NEW

This data collection is to study the intersection of intimate partner violence (IPV) and trauma for women with HIV, at risk for HIV, and at risk for substance use disorders (SUDs) VITEL provides supplemental funding to existing SAMHSA Targeted Capacity Expansion: Substance Abuse Treatment for Racial/Ethnic Minority Women at High Risk for HIV/AIDS (TCE-HIV: Minority Women) grantees. These activities will be conducted with five grantees and include: (1) Administration of baseline, discharge and 6-month post-baseline surveys of clients receiving IPV screening and referral services, (2) focus groups with clients receiving IPV and SUD services, (3) documentation of IPV service and other referral service(s) engagement, and (4) semi-structured interviews with VITEL program staff and partner/collaborating staff supporting IPV services.

The goals of the VITEL program are (1) reduce IPV through screening and referrals, (2) reduce risky behaviors that lead to new HIV infections and SUDs, (3) increase access to care and improve health outcomes for people living with HIV and AIDS, (4) reduce HIV-related health disparities resultant from IPV screening tool implementation, and (5) determine the feasibility of integrating IPV screening in behavioral health settings. A multi-stage approach has been used to develop the appropriate theoretical framework, conceptual model, evaluation design and protocols, and data collection instrumentation. Process and outcome measures have been developed to fully capture community and contextual conditions, the scope of the VITEL program implementation and activities, and client outcomes. A mixed-method approach (e.g., surveys, semi-structured interviews, focus groups) will be used, for example, to examine collaborative community linkages established between grantees and other service providers (e.g., primary health care, SUD recovery), determine which program models and what type and amount of client exposure to services contribute to significant changes in IPV, SUD, and HIV risk behaviors of the targeted populations, and determine the impact of VITEL services on providers, clients, and communities.

The data collection for this program will be conducted quarterly (during this one year supplemental period) and the client outcome data collection will be ongoing throughout the program and will be collected at baseline, discharge and 6-months post baseline for all treatment clients. The respondents are clinic-based social workers, counselors, administrators, and clinic-based clients.

The estimated annualized burden is summarized below:
Instrument/Activity | Number of respondents | Responses per respondent | Total response numbers | Hours per response | Total burden hours
Baseline data collection (Clients) | 500 | 1 | 500 | .42 | 210
Discharge data collection (Clients) | 400 | 1 | 400 | .42 | 168
6-Month post Baseline data collection (Clients) | 400 | 1 | 400 | .42 | 168
Interaction Form (Client) | 500 | 1 | 500 | .42 | 210
Treatment Focus Group (Client) | 45 | 2 | 90 | 1.0 | 90
Client Sub-total | 500 |  | 1,890 |  | 846
Executives and Project Director/Program Manager (Semi-Structured Interviews) | 10 | 1 | 10 | .75 | 7.5
Executives and Project Director/Program Manager (Progress Report) | 5 | 1 | 5 | 3.0 | 15
Direct Staff (Semi-Structured Interviews) | 10 | 1 | 10 | .75 | 7.5
Community Collaborators (Semi-Structured Interviews) | 10 | 1 | 10 | 1.0 | 10
Staff Sub-total | 35 |  | 35 |  | 40
Total | 535 |  | 1,925 |  | 886

Written comments and recommendations concerning the proposed information collection should be sent by January 27, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-32584 Filed 12-24-15; 8:45 am]

BILLING CODE 4162-20-P